DEPARTMENT OF LABOR

Office of the Secretary

Submission for OMB Review: Comment Request

June 28, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Application for Training Grant.

OMB Number: 1218-0020.

Frequency: Annually.

Type of Response: Reporting.

Affected Public: Not-for-profit institutions.

Number of Respondents: 250.

Number of Annual Responses: 250.

Estimated Time Per Response: 59.25 hours.

Total Burden Hours: 14,813.

Total Annualized capital/startup costs: $0.

Total Annual Costs (operating/maintaining systems or purchasing services): $0.

Description: Section 21 of the Occupational Safety and Health Act of 1970 (the Act) (29 U.S.C. 670) authorizes the OSHA to conduct directly, or through grants and contracts, education and training courses. These courses must ensure an adequate number of qualified personnel to fulfill the purposes of the Act, provide them with short-term training, inform them of the importance and proper use of safety and health equipment, and train employers and employees to recognize, avoid, and prevent unsafe and unhealthful working conditions.

Under section 21 of the Act, OSHA awards grants to non-profit organizations to provide part of the required training. To obtain such as grant, an organization must complete the training grant application. OSHA uses the information in this application to evaluate: The organization's competence to provide the proposed training (including the qualifications of the personnel who manage and implement the training); the goals and objectives of the proposed training program; a workplan that describes in detail the tasks that the organization will implement to meet these goals and objectives; the appropriateness of the proposed costs; and compliance with Federal regulations governing nonprocurement debarment and suspension, maintaining a drug-free workplace, and lobbying activities. Also required is a program summary that Agency officials use to review and evaluate the highlights of the overall proposal.

Agency: Occupational Safety and Health Administration.

Type of Review: Extension of currently approved collection.

Title: Standard on the Control of Hazardous Energy (Lockout/Tagout).

OMB Number: 1218-0150.

Frequency: On occasion; annually; and initially.

Type of Response: Recordkeeping and third party disclosure.

Affected Public: Business or other for-profit; not-for-profit institutions; Federal Government; and State, local, or tribal government.

Number of Respondents: 818,532.

Number of Annual Responses: 94,647,166.

Estimated Time Per Response: Varies from 15 seconds for an employer or authorized employee to notify affected employees prior to applying, and after removing, a lockout/tagout device from a machine or equipment to 80 hours for certain employers to develop energy-control procedures.

Total Burden Hours: 3,421,527.

Total Annualized capital/startup costs: $0.

Total Annual Costs (operating/maintaining systems or purchasing services): $0.

Description: The purpose of the information collection requirements in 29 CFR 1910.147 is to control the release of hazardous energy while employees service, maintain, or repair machines or equipment when activation, start up, or release of energy from an energy source is possible; proper control of hazardous energy prevents death and serious injury among these employees.

Agency: Occupational Safety and Health Administration.

Type of Review: Extension of currently approved collection.

Title: Material Hoists, Personnel Hoists, and Elevators; Posting Requirements.

OMB Number: 1218-0231.

Frequency: On occasion and Quarterly.

Type of Response: Recordkeeping and third party disclosure.

Affected Public: Business or other for-profit; not-for-profit institutions; Federal Government; and State, local, or tribal government.

Number of Respondents: 26,547.

Number of Annual Responses: 130,467.

Estimated Time Per Response: Varies from 2 minutes for a supervisor to disclose test and inspection certification records to 30 minutes for a construction worker to obtain and post information for hoists.

Total Burden Hours: 30,282.

Total Annualized capital/startup costs: $0.

Total Annual Costs (operating/maintaining systems or purchasing services): $0.

Description: The information collection requirements in 29 CFR 1926.552 are designed to protect employees who operate and work around personnel hoists.

Agency: Occupational Safety and Health Administration.

Type of Review: Extension of currently approved collection.

Title: Rigging Equipment for Material Handling.

OMB Number: 1218-0233.

Frequency: On occasion and Annually.

Type of Response: Recordkeeping and third party disclosure.

Affected Public: Business or other for-profit; not-for-profit institutions; Federal Government; and State, local, or tribal government.

Number of Respondents: 132,737.

Number of Annual Responses: 301,619.

Estimated Time Per Response: Varies from 3 minutes for an employer to maintain and disclose a certificate to 30 minutes for employer to acquire information and make a tag for a sling.

Total Burden Hours: 56,335.

Total Annualized capital/startup costs: $0.

Total Annual Costs (operating/maintaining systems or purchasing services): $0.

Description: The information-collection requirements contained in 29 CFR 1926.251 paragraphs (b)(1), (b)(6)(i), (b)(6)(ii), (c)(15)(ii), (e)(1)(i), (ii), and (iii), and (f)(2) of the Rigging Equipment for Construction Standard require affixing identification tags or markings on rigging equipment; developing and maintaining inspection records; and retaining proof-testing certificates. The purpose of each of these requirements is to prevent employees from using defective or deteriorated equipment, thereby reducing their risk of death or serious injury caused by equipment failure during material handling.

Darrin A. King,
Acting Departmental Clearance Officer.

[FR Doc. 04-15176 Filed 7-2-04; 8:45 am]

BILLING CODE 4510-26-P